DEPARTMENT OF THE INTERIOR

Fish and Wildlife Service

[FWS-R9-FHC-2009-N0092; 71490-1351-0000-M2-FY09]

Marine Mammal Protection Act; Stock Assessment Report

AGENCY: Fish and Wildlife Service, Interior.

ACTION: Notice of availability of draft revised marine mammal stock assessment reports for the Pacific walrus stock and two stocks of polar bears; request for comments.

SUMMARY: In accordance with the Marine Mammal Protection Act of 1972, as amended (MMPA), and its implementing regulations, we, the U.S. Fish and Wildlife Service (Service), have developed draft revised marine mammal stock assessment reports (SARs) for the Pacific walrus (Odobenus rosmarus divergens) stock and for each of the two polar bear (Ursus maritimus) stocks in Alaska: The southern Beaufort Sea polar bear stock and the Chukchi/Bering seas polar bear stock. These three SARs are available for public review and comment.

DATES: We must receive comments by September 16, 2009.

ADDRESSES: To obtain the SARs for the Pacific walrus or either polar bear stock, and to submit comments, see Document Availability and Public Comment, respectively, under SUPPLEMENTARY INFORMATION.

FOR FURTHER INFORMATION CONTACT: Rosa Meehan, Marine Mammals Management Office, (800) 362-5148 (telephone) or r7_mmm_comment@fws.gov (e-mail).

SUPPLEMENTARY INFORMATION:

Background

Under the MMPA (16 U.S.C. 1361 et seq.) and its implementing regulations in the Code of Federal Regulations (CFR) at 50 CFR part 18, we regulate the taking, possession, transportation, purchasing, selling, offering for sale, exporting, and importing of marine mammals. One of the MMPA's goals is to ensure that stocks of marine mammals occurring in waters under U.S. jurisdiction do not experience a level of human-caused mortality and serious injury that is likely to cause the stock to be reduced below its optimum sustainable population level (OSP). OSP is defined as “the number of animals which will result in the maximum productivity of the population or the species, keeping in mind the carrying capacity of the habitat and the health of the ecosystem of which they form a constituent element.”

To help accomplish the goal of maintaining marine mammal stocks at their OSPs, section 117 of the MMPA requires us and the National Marine Fisheries Service (NMFS) to prepare a SAR for each marine mammal stock that occurs in waters under U.S. jurisdiction. A SAR must be based on the best scientific information available; therefore, we prepare it in consultation with established regional scientific review groups. Each SAR must include: (1) A description of the stock and its geographic range; (2) a minimum population estimate, maximum net productivity rate, and current population trend; (3) an estimate of human-caused mortality and serious injury; (4) a description of commercial fishery interactions; (5) a categorization of the status of the stock; and (6) an estimate of the potential biological removal (PBR) level. The PBR is defined as “the maximum number of animals, not including natural mortalities, that may be removed from a marine mammal stock while allowing that stock to reach or maintain its OSP.” The PBR is the product of the minimum population estimate of the stock (Nmin); one-half the maximum theoretical or estimated net productivity rate of the stock at a small population size (Rmax); and a recovery factor (Fr) of between 0.1 and 1.0, which is intended to compensate for uncertainty and unknown estimation errors.

Section 117 of the MMPA also requires us and NMFS to review the SARs (a) at least annually for stocks that are specified as strategic stocks, (b) at least annually for stocks for which significant new information is available, and (c) at least once every 3 years for all other stocks.

A strategic stock is defined in the MMPA as a marine mammal stock (a) for which the level of direct human-caused mortality exceeds the PBR; (b) which, based on the best available scientific information, is declining and is likely to be listed as a threatened species under the Endangered Species Act of 1973, as amended (16 U.S.C. 1531 et seq.; ESA), within the foreseeable future; or (c) which is listed as a threatened or endangered species under the ESA, or is designated as depleted under the MMPA.

The following table summarizes the information we are now making available in the draft revised SARs for the Pacific walrus, the southern Beaufort Sea polar bear, and the Chukchi/Bering Seas polar bear stocks, listing each stock's Nmin, Rmax, Fr, PBR, annual estimated human-caused mortality and serious injury, and status. After consideration of any public comments we receive, we will revise any or all of these SARs, as appropriate. We will publish a notice of availability and summary for each final SAR, including responses to comments we received.

Table 1—Summary: Draft Revised Stock Assessment Reports for the Pacific Walrus, Southern Beaufort Sea Polar Bear, and Chukchi/Bering Seas Polar Bear
Stock | Nmin | Rmax | Fr | PBR | Annual estimated average human-caused mortality and serious injury | Stock status
Pacific Walrus | 15,164 | 0.08 | 1.0 | 607 | 4,963-5,460 | Strategic.
Southern Beaufort Sea Polar Bear | 1,397 | 0.0603 | 0.5 | 22 | 33 (Alaska) 21 (Canada) | Strategic.
Chukchi/Bering Seas Polar Bear | 2,000 | 0.0603 | 0.5 | 30 | 37 (Alaska) —(Russia) | Strategic.

Document Availability

Draft Revised SARs for Pacific Walrus, Southern Beaufort Sea Polar Bear, and Chukchi/Bering Seas Polar Bear

You may obtain copies by any one of the following methods:

• Internet: http://alaska.fws.gov/fisheries/mmm/walrus/reports.htm (for the walrus stock) and http://alaska.fws.gov/fisheries/mmm/polarbear/reports.htm (for both polar bear stocks).

• Write to or visit (during normal business hours from 8 a.m. to 4:30 p.m. Monday through Friday) the Chief, U.S. Fish and Wildlife Service, Marine Mammals Management Office, 1011 East Tudor Road, Anchorage, AK 99503; telephone: (800) 362-3800.

Public Comment

Draft Revised SARs for Pacific Walrus, Southern Beaufort Sea Polar Bear, and Chukchi/Bering Seas Polar Bear

You may submit a written comment by any one of the following methods:

• E-mail: r7_mmm_comment@fws.gov.

• Mail or hand-delivery: Chief, Marine Mammals Management Office (see address above).

• Fax: (907) 786-3816.

References

In accordance with the MMPA, we include in this notice a list of the information sources and public reports upon which we based the SARs.

Pacific Walrus

Burn, D.M., M.A. Webber, and M.S. Udevitz. 2006. Application of airborne thermal imagery to surveys of Pacific walrus. Wildlife Society Bulletin 34(1):51-58.

Chapskii, K.K. 1936. The walrus of the Kara Sea. Results of an investigation of the life history, geographical distribution, and stock of walruses in the Kara Sea. Transactions of the Arctic Institute 67:1-124.

Chivers, S.J. 1999. Biological indices for monitoring population status of walrus evaluated with an individual-based model. Pages 239-247 In Garner, G.W., S.C. Amstrup, J.L. Laake, B.F.J. Manly, L.L. McDonald, and D.G. Robertson (eds.), Marine Mammal Survey and Assessment Methods. A.A. Balkema, Rotterdam, 287 pp.

DeMaster, D.P. 1984. An analysis of a hypothetical population of walruses. Pages 77-80 In F.H. Fay and G.A. Fedoseev (eds.), Soviet-American Cooperative Research on Marine Mammals, vol. 1, Pinnipeds. NOAA Technical Report, NMFS 12, 104 pp.

Estes, J.A., and J.R. Gilbert. 1978. Evaluation of an aerial survey of Pacific walruses (Odobenus rosmarus divergens). Journal of the Fisheries Research Board of Canada 35:1130-1140.

Estes, J.A., and V.N. Gol'tsev. 1984. Abundance and distribution of the Pacific walrus (Odobenus rosmarus divergens): Results of the first Soviet-American joint aerial survey, autumn 1975. Pages 67-76 In F.H. Fay and G.A. Fedoseev (eds.), Soviet-American Cooperative Research on Marine Mammals, vol. 1, Pinnipeds. NOAA Technical Report, NMFS 12, 104 pp.

Fay, F.H. 1982. Ecology and Biology of the Pacific Walrus (Odobenus rosmarus divergens). North American Fauna 74. U.S. Fish and Wildlife Service, Washington, DC., 279 pp.

Fay, F.H., and J.J. Burns. 1988. Maximal feeding depth of walruses. Arctic 41(3):239-240.

Fay, F.H., B.P. Kelly, P.H. Gehnrich, J.L. Sease, and A.A. Hoover. 1984. Modern populations, migrations, demography, trophics, and historical status of the Pacific walrus. Final Report R.U. #611. NOAA Outer Continental Shelf Environmental Assessment Program, Anchorage, AK., 142 pp.

Fay, F.H., B.P. Kelly, and J.L. Sease. 1989. Managing the exploitation of Pacific walruses: a tragedy of delayed response and poor communication. Marine Mammal Science 5:1-16.

Fay, F.H., J.J. Burns, S.W. Stoker, and J.S. Grundy. 1994. The struck-and-lost factor in Alaskan walrus harvests. Arctic 47(4):368-373.

Fay, F.H., L.L. Eberhardt, B.P. Kelly, J.J. Burns, and L.T. Quakenbush. 1997. Status of the Pacific walrus Population, 1950-1989. Marine Mammal Science 13(4):537-565.

Fedoseev, G.A. 1984. Present status of the population of walruses (Odobenus rosmarus) in the eastern Arctic and Bering Sea. Pages 73-85 In V.E. Rodin, A.S. Perlov, A.A. Berzin, G.M. Gavrilov, A.I. Shevchenko, N.S. Fadeev, and E.B. Kucheriavenko (eds.), Marine Mammals of the Far East. TINRO, Vladivostok.

Fedoseev, G.A., and V.N. Gol'tsev. 1969. Age-sex structure and reproductive capacity of the Pacific walrus population. Zoological Journal 48:407-413.

Fedoseev, G.A., and E.V. Razlivalov. 1986. The distribution and abundance of walruses in the eastern Arctic and Bering Sea in autumn 1985. VNIRO, Magadan Branch. Mimeo report, 7 pp.

Garlich-Miller, J., and C.V. Jay. 2000. Proceedings of a workshop concerning walrus survey methods. USFWS R7/MMM Technical Report 00-2, 92 pp.

Gilbert, J.R. 1986. Aerial survey of Pacific walrus in the Chukchi Sea, 1985. Mimeo report, 43 pp.

Gilbert, J.R. 1989a. Aerial census of Pacific walruses in the Chukchi Sea, 1985. Marine Mammal Science 5(1):17-28.

Gilbert, J.R. 1989b. Errata: Correction to the variance of products, estimates of Pacific walrus populations. Marine Mammal Science 5(4):411-412.

Gilbert, J.R. 1999. Review of previous Pacific walrus surveys to develop improved survey designs. Pages 75-84 In Garner, G.W., S.C. Amstrup, J.L. Laake, B.F.J. Manly, L.L. McDonald, and D.G. Robertson (eds.), Marine Mammal Survey and Assessment Methods. A. A. Balkema, Rotterdam, 287 pp.

Gilbert, J.R., G.A. Fedoseev, D. Seagars, E. Razlivalov, and A. LaChugin. 1992. Aerial census of Pacific walrus, 1990. USFWS R7/MMM Technical Report 92-1, 33 pp.

Hills, S., and J.R. Gilbert. 1994. Detecting Pacific walrus population trends with aerial survey—a review. Transactions North American Wildlife and Natural Resource Conference.

Jay, C.V., P.M. Outridge, and J.L. Garlich-Miller. 2008. Indication of two Pacific walrus stocks from whole tooth elemental analysis. Polar Biology 31:933-943.

Johnson, A., J. Burns, W. Dusenberry, and R. Jones. 1982. Aerial survey of Pacific walrus, 1980. U.S. Fish and Wildlife Service, Anchorage, AK. Mimeo report, 32 pp.

Kavry, V.I., A.N. Boltunov, and V.V. Nikiforov. 2008. New coastal haulouts of walruses (Odobenus rosmarus)—response to the climate changes. Pages 248-251, In Collection of Scientific Papers from the Marine Mammals of the Holarctic V conference, Odessa, Ukraine, 14-18 October 2008.

Kochnev, A.A. Personal Communication. Head of Laboratory of Marine Mammals Study, ChukotTINRO, Pacific Research Institute of Fisheries and Oceanography, P.O. Box 29, Anadyr, Chukotka, 689000, Russia.

Kochnev, A.A., N.V. Kryukova, A.A. Pereverzev, and D.I. Ivanov. 2008. Coastal haulouts of the Pacific walruses (Odobenus rosmarus divergens) in Anadyr Gulf (Bering Sea), 2007. Pages 267-272 In Collection of Scientific Papers from the Marine Mammals of the Holarctic V conference, Odessa, Ukraine, 14-18 October 2008.

Krylov, V.I. 1965. Determination of age, rate of growth, and analysis of the age structure of the catch of the Pacific walrus. Pages 210-211 In E.N. Pavlovskii, B.A. Zenkovich, S.E. Kleinenber, and K.K. Chapskii (eds.), Morskie Mlekopitaiushchie. Nauka, Moscow.

Krylov, V.I. 1968. On the present status of stocks of the Pacific walrus and prospects of their rational exploitation. Pages 189-204 In V.A. Arsen'ev and K.I. Panin (eds.), Lastonogie Severnoi Chasti Tikhogo Okeana. Pischevaya Promyshlennost', Moscow.

Mansfield, A.W. 1959. The walrus in the Canadian Arctic. Fisheries Research Board Canada, Circular 2, 13 pp.

Maslanik, J.A., C. Fowler, J. Stroeve, S. Drobot, J. Zwally, D. Yi, & W. Emery. 2007. A younger, thinner Arctic ice cover: Increased potential for rapid, extensive sea-ice loss. Geophysical Research Letters 34, L24501.

Meier, W., J. Stroeve, and F. Fetterer. 2007. Whither Arctic sea ice? A clear signal of decline regionally, seasonally and extending beyond the satellite record. Annals of Glaciology 46:428-434.

Overland, J.E., and M. Wang. 2007. Future regional Arctic sea ice declines. Geophysical Research Letters 34:L17705, doi: 17710.11029/12007GL03808.

Overpeck, J.T., M. Sturm, J.A. Francis, D.K. Perovich, M.C. Serreze, R. Benner, E.C. Carmack, F.S. Chapin III, S.C. Gerlach, L.C. Hamilton, L.D. Hinzman, M. Holland, H.P. Huntington, J.R. Key, A.H. Lloyd, G.M. MacDonald, J. McFadden, D. Noone, T.D. Prowse, P. Schlosser, and C. Vörösmarty. 2005. Arctic system on trajectory to new, seasonally ice-free state. EOS Transactions 86(34):309-316.

Ovsyanikov, N.G., I.E. Menyushina, and A.V. Bezrukov. 2008. Unusual Pacific walrus mortality at Wrangel Island in 2007. Pages 413-416 In Collection of Scientific Papers from the Marine Mammals of the Holarctic V conference, Odessa, Ukraine, 14-18 October 2008.

Scribner, K.T., S. Hills, S.R. Fain, and M.A. Cronin. 1997. Population genetics studies of the walrus (Odobenus rosmarus): a summary and interpretation of results and research needs. In A.E. Dizon, S.J. Chivers, and W.F. Perrin (eds.), Molecular Genetics of Marine Mammals. Marine Mammal Science, Special publication 3:173-184.

Sease, J.L. 1986. Historical status and population dynamics of the Pacific walrus. Univ. Alaska, Fairbanks. Thesis, 213 pp.

Sease, J.L., and D.G. Chapman. 1988. Pacific walrus (Odobenus rosmarus divergens). Pages 17-38 In J.W. Lentfer (eds.), Selected Marine Mammals of Alaska: species accounts with research and management recommendations. Marine Mammal Commission, Washington, DC. NTIS PB88-178462.

Speckman, S.G., V. Chernook, D.M. Burn, M.S. Udevitz, A. Kochnev, A. Vasilev, R.B. Benter, and A. Lisovsky. 2009. Range-wide survey of Pacific walruses in 2006: Estimated number of walruses on sea ice. Progress Report. U.S. Fish and Wildlife Service and U.S. Geological Survey, Anchorage, Alaska. 55 pp.

Stroeve, J., M.M. Holland, W. Meier, T. Scambos, and M. Serreze. 2007. Arctic sea ice decline: Faster than forecast. Geophysical Research Letters 34.

Stroeve, J., M. Serreze, S. Drobot, S. Gearheard, M.M. Holland, J. Maslanik, W. Meier, and T. Scambos. 2008. Arctic sea ice extent plummets in 2007. EOS Transactions, AGU 89:13-20.

Udevitz, M.S., J.R. Gilbert, and G.A. Fedoseev. 2001. Comparison of method used to estimate numbers of walruses on sea ice. Marine Mammal Science 17:601-616.

Udevitz, M.S., D.M. Burn, and M.A. Webber. 2008. Estimation of walrus populations on sea ice with infrared imagery and aerial photography. Marine Mammal Science 24(1):57-70.

Wade, P.R., and R. Angliss. 1997. Guidelines for assessing marine mammal stocks: report of the GAMMS workshop April 3-5, 1996, Seattle, Washington. U.S. Dep. Commer., NOAA Tech. Memo. NMFS-OPR-12, 93 pp.

Southern Beaufort Sea Polar Bear

Amstrup, S.C. 1995. Movements, distribution, and population dynamics of polar bears in the Beaufort Sea. PhD Dissertation. University of Alaska-Fairbanks, Fairbanks, Alaska, 299 pp.

Amstrup, S.C., 2000. Polar Bear. In The Natural History of an Oil Field: Development and Biota. Edited by J.C. Truett and S.R. Johnson. Academic Press, Inc., New York, New York, USA pp. 133-157.

Amstrup, S.C. 2003. Polar Bear (Ursus maritimus). Pages 587-610 in Feldhammer, G.A., B.C. Thompson, and J.A. Chapman, eds., Wild Mammals of North America—Biology, Management, and Conservation. John Hopkins University Press. Baltimore, Maryland. pp. 587-610.

Amstrup, S.C., and D.P. DeMaster. 1988. Polar bear, Ursus maritimus. Pages 39-45 in J.W. Lentfer, ed., Selected Marine Mammals of Alaska: Species Accounts with Research and Management Recommendations. Marine Mammal Commission, Washington, DC.

Amstrup, S., and C. Gardner. 1994. Polar bear maternity denning in the Beaufort Sea. Journal of Wildlife Management 58(1):1-10.

Amstrup, S.C., I. Stirling, and J.W. Lentfer. 1986. Past and present status of polar bears in Alaska. Wildlife Society Bulletin. 14:241-254.

Amstrup, S.C., G. Durner, I. Stirling, N.J. Lunn, and F. Messier. 2000. Movements and distribution of polar bears in the Beaufort Sea. Canadian Journal of Zoology. 78:948-966.

Amstrup, S.C., G.M. Durner, T.L. McDonald, D.M. Mulcahy, and G.W. Garner. 2001a. Comparing movement patterns of satellite-tagged male and female polar bears. Canadian Journal of Zoology. 79:2147-2158.

Amstrup, S.C., T.L. McDonald, and I. Stirling. 2001b. Polar bears in the Beaufort Sea: A 30-year mark-recapture case history. Journal of Agricultural, Biological, and Environmental Statistics, Vol. 6(2): 221-234.

Amstrup, S.C., G. M. Durner, A. S. Fischbach, K. Simac, and G. Weston-York. 2002. Polar Bear Research in the Beaufort Sea. in N. Lunn, E. W. Born, and S. Schliebe (eds.), Proceedings of the Thirteenth Working Meeting of the IUCN/SSC Polar Bear Specialist Group. 23-28 June, 2001, Nuuk, Greenland. IUCN, Gland, Switzerland, and Cambridge, UK. vii + 153 pp.

Amstrup, S.C., T.L. McDonald, and G. Durner. 2004. Using satellite radiotelemetry data to delineate and manage wildlife populations. Wildlife Society Bulletin. 32(3):661-679.

Amstrup, S.C., G.M. Durner, I. Stirling, and T.L. McDonald. 2005. Allocating harvests among polar bear stocks in the Beaufort Sea. Arctic. 58:247-259.

Amstrup, S.C., G.M. Durner, T.L. McDonald, and W.R. Johnson. 2006. Estimating potential effects of hypothetical oil spills on polar bears. Unpublished Report. U.S. Geological Survey, Alaska Science Center, Anchorage, Alaska. 56 pp.

Bethke, R., M. Taylor, S. Amstrup, and F. Messier. 1996. Population delineation of polar bears using satellite collar data. Ecological Applications 6(1):311-317.

Brower, C. D., A. Carpenter, M. Branigan, W. Calvert, T. Evans, A. Fischbach, J. Nagy, S. Schliebe, and I. Stirling. 2002. The polar bear management agreement for the southern Beaufort Sea: An evaluation of the first ten years of a unique conservation agreement. Submitted to: Arctic 56:362-372.

Comiso, J.C. 2003. Warming trends in the Arctic from clear sky satellite observations. Journal of Climate 16:3498-3510.

Comiso, J.C. 2006. Arctic warming signals from satellite observations, Weather 61(3):70-76.

Cronin, M.A., S.C. Amstrup, G.W. Garner, and E.R. Vyse. 1991. Interspecific and intraspecific mitochondrial DNA variation in North American bears (Ursus). Canadian Journal of Zoology. 69:12:2985-2992.

Cronin, M.A., S.C. Amstrup, and K.T. Scribner. 2006. Microsatellite DNA and mitochondrial DNA variation in polar bears (Ursus maritimus) in the Beaufort and Chukchi seas, Alaska. Canadian Journal of Zoology 84:655-660.

DeMaster, D.P., and I. Stirling. 1981. Ursus maritimus. Mammalian Species:1-7.

Dizon, A.E., C. Lockyer, W.F. Perrin, D.P. DeMaster, and J. Sisson. 1992. Rethinking the stock concept: a phylogeographic approach. Conservation Biology. 6:24-36.

Durner, G.M., S.C. Amstrup, and K.J. Ambrosius. 2001. Remote identification of polar bear maternal den habitat in Northern Alaska. Arctic 54(2):115-121.

Durner, G.M., S.C. Amstrup, R. Nielson, and T. McDonald. 2004. The use of sea ice habitat by female polar bears in the Beaufort Sea. U.S. Geological Survey, Alaska Science Center, Anchorage, Alaska. OCS study, MMS 2004-014. 41 pp.

Durner, G.M., D.C. Douglas, R.M. Nielson, and S.C. Amstrup. 2006a. A model for autumn pelagic distribution of adult female polar bears in the Chukchi Sea, 1987-1994. USGS Science Center, Anchorage, Alaska. Contract Completion Report 70181-5-N240. 67 pp.

Durner, G.M., S.C. Amstrup, and K.J. Ambrosius. 2006b. Polar bear maternal den habitat in the Arctic national Wildlife refuge, Alaska. Arctic 59(1):31-36.

Durner, G.M., D.C. Douglas, R.M. Nielson, S.C. Amstrup, T.L. McDonald, I. Stirling, M. Mauritzen, E.W. Born, O. Wiig, E. DeWeaver, M.C. Serreze, S.E. Belikov, M.M. Holland, J. Maslanik, J. Aars, D.C. Bailey, and A.E. Derocher. 2009. Predicting 21st century polar bear habitat distribution from global climate models. Ecological Monographs 79(1): 25-58.

Evans, T. J. 2004a. Concentrations of selected essential and non-essential elements in adult male polar bears (Ursus maritimus) from Alaska. U.S. Fish and Wildlife Service Technical Report. MMM 04-02. 68pp.

Evans, T. J. 2004b. PCBs and chlorinated pesticides in adult male polar bears (Ursus maritimus) from Alaska. U.S. Fish and Wildlife Service Technical Report. MMM 04-01. 61pp.

Fischbach, A.S., S.C. Amstrup, and D.C. Douglas. 2007. Landward and eastward shift of Alaskan polar bear denning associated with recent sea ice changes. Polar Biology 30:1395-1405: doi.1007/s00300-007-0300-4.

Fowler, C., W.J. Emery, and J. Maslanik. 2004. Satellite-derived evolution of Arctic sea ice age: October 1978 to March 2003. Geoscience and Remote Sensing Letters, IEEE, Volume 1, Issue 2, April 2004 pp.71-74.

Garner, G.W., S.T. Knick, and D.C. Douglas. 1990. Seasonal movements of adult female polar bears in the Bering and Chukchi seas. International Conference on Bear Research and Management 8:219-226.

Garner, G.W., L.L. McDonald, D.S. Robson, D.P. Young Jr., and S.M. Arthur. 1992. Literature review: population estimation methodologies applicable to the estimation of abundance of polar bears. Internal Report, U.S.FWS. 102pp.

Garner, G.W., L.L. McDonald, S.M. Arthur, and T.L. Olson. 1994. Operating procedures: Pilot polar bear survey Beaufort Sea: 1994. Internal Report, U.S.FWS, 39 pp.

Harington, C.R. 1968. Denning habits of the polar bear (Ursus maritimus) Phipps. Canadian Wildlife Service Report, Series 5. 33 pp.

Holland, M., C.M. Bitz, and B. Tremblay. 2006. Future abrupt reductions in summer Arctic sea ice. Geophysical Research Letters 33 L25503: doi 10.1029/200661028024: 1-5.

Hunter, C.M., H. Caswell, M.C. Runge, E.V. Regehr, S.C. Amstrup, and I. Stirling. 2007. Polar bears in the Southern Beaufort Sea II: Demography and population growth in relation to sea ice conditions. U.S. Geological Survey, Alaska Science Center, Administrative Report. 46 pp.

Kannan, K., S.H. Yun, and T.J. Evans. 2005. Chlorinated, brominated, and perfluorinated contaminants in livers of polar bears from Alaska. Environmental Science and Technology. 39:9057-9063.

Kannan, K., T. Agusa, T.J. Evans, and S. Tanabe. 2007. Trace element concentrations in livers of polar bears from tow population in northern and western Alaska. Archives of Environmental Contaminants and Toxicology 53:473-482.

Lentfer, J.W. 1974. Discreteness of Alaskan polar bear populations. Proceedings of the International Congress of Game Biologists 11:323-329.

Lentfer, J.W. 1976. Environmental contaminants and parasites in polar bears. Alaska Department of Fish and Game, Pittman-Robertson Project Report. W-17-4 and W-17-5. 22 pp.

Lentfer, J.W. 1983. Alaskan polar bear movements from mark and recovery. Arctic 36:282-288.

Lentfer, J.W., R.J. Hensel, J.R. Gilbert, and F.E. Sorensen. 1980. Population characteristics of Alaskan polar bears. International Conference on Bear Research and Management 3: 109-115.

Lentfer, J.W., and W.A. Galster. 1987. Mercury in polar bears from Alaska. J. Wildlife Diseases 23:338-341.

Lindsay, R.W., and J. Zhang. 2005. The thinning of the Arctic sea ice, 1988-2003: have we passed a tipping point? J. Climate 18: 4879-4894.

Lunn, N.J., M. Branigan, L. Carpenter, K. Chaulk, B. Doidge, J. Galipeau, D. Hedman, M. Huot, R. Maraj, M. Obbard, R. Otto, I. Stirling, M. Taylor, and S. Woodley. 2005. Polar bear management in Canada 2001-2004. Pages 101-116 in Jon Aars, N.J. Lunn, and A.E. Derocher (eds). Proceedings of the 14th working meeting of the IUCN/SSC Polar Bear Specialist Group, June 2005, Seattle, Washington, U.S.A. 22pp.

Manning, T.H. 1971. Geographical variation in the polar bear Ursus maritimus Phipps. Canadian Wildlife Service Report Series No. 13. 27 pp.

Minerals Management Service (MMS). 2004. Proposed oil and gas lease sale 195, Beaufort Sea Planning Area Environmental Assessment. U.S. Department of the Interior, MMS, Anchorage, Alaska, USA. 101 pp. + Appendices.

Muir, D.C.G., S. Backus, A.E. Derocher, R. Dietz, T.J. Evans, G.W. Gabrielsen, J. Nagy, R.J. Norstrom, C. Sonne, I. Stirling, M.K. Taylor, and R.J. Letcher. 2006. Brominated flame retardants in polar bears (Ursus maritimus) from Alaska, the Canadian Arctic, East Greenland and Svalbard. Environmental Science and Technology 40(2):449-455.

Nageak, B.P., C.D.N. Brower, and S.L. Schliebe. 1991. Polar bear management in the southern Beaufort Sea: An Agreement between the Inuvialuit Game Council and the North Slope Borough Fish and Game Committee. In Transactions of North American Wildlife and Natural Resources Conference. 56:337-343.

Paetkau, D., S.C. Amstrup, E.W. Born, W. Calvert, A.E. Derocher, G.W. Garner, F. Messier, I. Stirling, M.K. Taylor, O. Wiig, and C. Strobeck. 1999. Genetic Structure of the world's polar bear populations. Molecular Ecology. 8:1571-1584.

Parkinson, C.L., D.J. Cavalieri, P. Gloersen, H.J. Zwally, and J.C. Comiso. 1999. Arctic sea ice extents, areas, and trends, 1978-1996. Journal of Geophysical Research 104(C9):20837-20856.

Prestrud, P., and I. Stirling. 1994. The international polar bear agreement and the current status of polar bear conservation. Aquatic Mammals 20:113-124.

Regehr, E.V., S.C. Amstrup, and I. Stirling. 2006. Polar bear population status in the southern Beaufort Sea. U.S. Geological Survey Open File Report 2006-1337. 20 pp.

Regehr, E.V., C.M. Hunter, H. Caswell, S.C. Amstrup, and I. Stirling. 2007. Polar bears in the Southern Beaufort Sea I: Survival and breeding in relation to sea ice conditions, 2001-2006. U.S. Geological Survey, Alaska Science Center, Administrative Report. 45 pp.

Rode, K.D., S.C. Amstrup, and E.V. Regehr. 2007. Polar Bears in the southern Beaufort Sea III: stature, mass, and cub recruitment in relationship to time and sea ice extent between 1982 and 2006. U.S. Dept. of the Interior, U.S. Geological Survey Administrative Report, Reston, Virginia. 28 pp.

Rothrock, D.A., Y. Yu, and G.A. Maykut. 1999. Thinning of the Arctic sea-ice cover, Geophysical Research Letters 26: 3469-3472.

Rush, S.A., K. Borga, R. Dietz, E.W. Born, C. Sonne, T. Evans, D.C.G. Muir, R.L. Letcher, R.J. Norstrom, and A.T. Fisk. 2008. Geographic Distribution of selected elements in the livers of polar bears from Greenland, Canada, and the United States. Environmental Pollution 153 (3): 618-626.

Schliebe, S., K.D. Rode, J.S. Gleason, J. Wilder, K. Proffitt, T.J. Evans, and S. Miller. 2008. Effects of sea ice extent and food availability on spatial and temporal distribution of polar bears during the fall open-water period in the Southern Beaufort Sea. Polar Biology. 12 pp.

Schliebe, S.L., S.C. Amstrup, and G.W. Garner. 1995. The status of polar bear in Alaska, 1993. In O. Wiig, G.W. Garner (eds.), Proceedings of the Eleventh Working Meeting of the IUCN/SSC Polar Bear Specialist Group. IUCN, Gland, Switzerland, and Cambridge, UK. v + 192 pp.

Scribner, K.T., G.W. Garner, S.C. Amstrup, and M.A. Cronin. 1997. Population genetic studies of the polar bear (Ursus maritimus): a summary of available data and interpretation of results. pp. 185-196, In Dizon, S., J. Chivers, and W. Perrin (eds.), Molecular genetics of marine mammals, incorporating the proceedings of a workshop on the analysis of genetic data to address problems of stock identity as related to management of marine mammals. Spec. Pub. #3 of the Society of Marine Mammalogy.

Serreze, M.C., M.M. Holland, and J. Stroeve. 2007. Perspectives on the Arctic's shrinking sea-ice cover. Science 315: 1533-1536.

Smithwick, M., J.W. Martin, S.A. Mabury, K. Solomon, C. Sonne, E.W. Born, R. Dietz, A.E. Derocher, R.L. Letcher, T.J. Evans, G.W. Gabrielsonm, J. Nagy, I. Stirling, and D.C.G. Muir. 2005. A circumpolar study of perfluoroalkyl contaminants in polar bears (Ursus maritimus). Environmental Science and Technology 39 (15): 5517-5523.

Smithwick, M. J., R. J. Norstrom, S.A. Maybury, K. Solomon, T.J. Evans, I. Stirling, M.K. Taylor, and D.C.G. Muir. 2006. Temporal trends of perfluoroalkyl contaminants in polar bears (Ursus maritimus) from two locations in the North American Arctic, 1972-2002. Environmental Science and Technology. 40 (4): 1139-1143.

Stirling, I., and C.L. Parkinson. 2006. Possible effects of climate warming on selected populations of polar bears (Ursus maritimus) in the Canadian Arctic. Arctic 99(3): 261-275.

Stirling, I., N.J. Lunn, and J. Iacozza. 1999. Long-term trends in the population ecology of polar bears in western Hudson Bay in relation to climate change. Arctic 52:294-306.

Stirling, I, T.L. McDonald, E.S. Richardson, and E.V. Regehr. 2007. Polar bear population status in the Northern Beaufort Sea. U.S. Geological Survey, Alaska Science Center, Administrative Report. 31 pp.

Stroeve, J., M. Serreze, S. Drobot, S. Gearheard, M. Holland, J. Maslanik, W. Meier, and T. Scambos. 2008. Arctic Sea Ice Extent Plummets in 2007. EOS, Transactions, American Geophysical Union 89(2):13-14.

Taylor, M.K., D.P. DeMaster, F.L. Bunnell, and R.E. Schweinsburg. 1987. Modeling the sustainable harvest of female polar bears. J. of Wildlife Management. 51:811-820.

Thiemann, G.W., A.E. Derocher, and I. Stirling. 2008. Polar bear (Ursus maritimus) conservation in Canada: an ecological basis for identifying designatable units. Oryx. 42(4): 504-515

Treseder, L., and A. Carpenter. 1989. Polar bear management in the Southern Beaufort Sea. Info. N. 15(4):2-4.

USFWS. Unpublished data (polar bear harvest information). Available from: USFWS Marine Mammals Office, 1011 East Tudor Road, Anchorage, AK 99503.

USGS (U.S. Geological Service) Unpublished data (research data). Available from: USGS/Alaska Science Center, 4210 University Drive, Anchorage, AK 99508.

Uspenski, S.M., and S.E. Belikov. 1991. Polar bear populations in the Arctic: Current state, studies, and management (1985-87). In S.C. Amstrup and O. Wiig (eds.), Proceedings of the Tenth Working Meeting of the IUCN/SSC Polar Bear Specialist Group, IUCN, Gland, Switzerland, and Cambridge, U.K.

Verrault, J., D.C.G. Muir, R.J. Norstrom, I. Stirling, A.T. Fisk, G.W. Gabrielsen, A.E. Derocher, T.J. Evans, R. Dietz, C. Sonne, G.M. Sandala, W. Gebbink, F.F. Riget, E.W. Born, M.K. Taylor, J. Nagy, and R. J. Letcher. 2005. Chlorinated hydrocarbon contaminants and metabolites in polar bears (Ursus maritimus) from Alaska, Canada, East Greenland, and Svalbard: 1996-2002. The Science of the Total Environment 351-352:369-390.

Wade, P.R., and R. Angliss. 1997. Guidelines for assessing marine mammal stocks: Report in the GAMMS Workshop, April 3-5, 1996, Seattle, WA. 93 pp.

Wilson, D.E. 1976. Cranial variation in polar bears. International Conference Bear Research and Management 3:447-453.

Woshner, V.M., T.M. O'Hara, G.R. Bratton, and V.R. Beasley. 2001. Concentrations and interactions of selected essential and non-essential elements in ringed seals and polar bears of Arctic Alaska. Journal of Wildlife Diseases. (37):711-721.

Chukchi/Bering Seas Polar Bear

Aars, J., N.J. Lunn, and A.E. Derocher. eds. 2006. Polar bears: proceedings of the 14th working meeting of the IUCN/SSC Polar Bear Specialist Group, 20-24 June, Seattle, Washington, USA. IUCN, Gland, Switzerland. 189 pp.

Administrative Law Judge. 1977. Environmental Impact Statement: Consideration of a waiver of the moratorium and return of management of certain marine mammals to the State of Alaska. 2 Volumes.

Amstrup, S.C. 1986. Research on polar bears in Alaska, 1983-1985. pp. 85-115. In Proceedings of the Ninth Working Meeting of the IUCN/SSC Polar Bear Specialist Group, Edmonton, Canada. IUCN, Gland, Switzerland, and Cambridge, U.K. 152 pp.

Amstrup, S.C. 1995. Movements, distribution, and population dynamics of polar bears in the Beaufort Sea. Ph.D. Dissertation. University of Alaska Fairbanks. Fairbanks, Alaska, 299 pp.

Amstrup, S.C. 2000. Polar Bear. In The Natural History of an Oil Field: Development and Biota. Edited by J.C. Truett and S.R. Johnson. Academic Press, Inc., New York, New York, USA pp. 133-157.

Amstrup, S.C., and D.P. DeMaster. 1988. Polar bear, Ursus maritimus. Pages 39-45 in J.W. Lentfer, ed. Selected Marine Mammals of Alaska: Species Accounts with Research and Management Recommendations. Marine Mammal Commission, Washington, DC.

Amstrup, S.C., I. Stirling, and J.W. Lentfer. 1986. Past and present status of polar bears in Alaska. Wildlife Society Bulletin. 14:241-254.

Amstrup, S.C., G. Durner, I. Stirling, N.J. Lunn, and F. Messier. 2000. Movements and distribution of polar bears in the Beaufort Sea. Canadian Journal of Zoology. 78:948-966.

Amstrup, S.C., G.M. Durner, T.L. McDonald, D.M. Mulcahy, and G.W. Garner. 2001a. Comparing movement patterns of satellite-tagged male and female polar bears. Canadian Journal of Zoology. 79:2147-2158.

Amstrup, S.C., T.L. McDonald, and I. Stirling. 2001b. Polar bears in the Beaufort Sea: A 30-year mark-recapture case history. Journal of Agricultural, Biological, and Environmental Statistics Vol.(2): 221-234.

Amstrup, S.C., G.M. Durner, A.S. Fischbach, K. Simac, and G. Weston-York. 2002. Polar Bear Research in the Beaufort Sea. pp. 109-125. In N. Lunn, E.W. Born, and S. Schliebe (eds). Proceedings of the Thirteenth Working Meeting of the IUCN/SSC Polar Bear Specialist Group, Nuuk, Greenland. IUCN, Gland, Switzerland, and Cambridge, U.K. vii + 153 pp.

Amstrup, S.C., T.L. McDonald, and G.M. Durner. 2004. Using satellite radiotelemetry data to delineate and manage wildlife populations. Wildlife Society Bulletin. 32:661-679.

Amstrup, S.C., G.M. Durner, I. Stirling, and T.L. McDonald. 2005. Allocating harvests among polar bear stocks in the Beaufort Sea. Arctic. 58:247-259.

Belikov, S.E. 1993. Status of polar bear populations in the Russian Arctic 1993. pp. 115-121. In O. Wiig, G.W. Garner (eds.). Proceedings of the Eleventh Working Meeting of the IUCN/SSC Polar Bear Specialist Group. IUCN, Gland, Switzerland, and Cambridge, U.K. v + 192 pp.

Belikov, S.E. 1998. Research and management of polar bear populations in the Russian Arctic. pp. 113-114. In A.E. Derocher, G. Garner, N. Lunn, and O. Wiig (eds). Proceedings of the Twelfth Working Meeting of the IUCN/SSC Polar Bear Specialist Group. 3-7 February, 1997. Oslo, Norway. IUCN, Gland, Switzerland, and Cambridge, U.K. v + 159 pp.

Belikov, S.E., A.N. Boltunov, N.G. Ovsianikov, G.I. Belchanskiy, and A.A. Kochnev. 2006. Polar bear management and research in Russia 2000-2004. pp. 153-155. In J. Aars, N.J. Lunn, and A.E. Derocher (eds.). Proceedings of the 14th Working Meeting of the IUCN/SSC Polar Bear Specialist Group, 20-24 June 2005, Seattle, Washington, U.S.A. IUCN, Gland, Switzerland, and Cambridge, U.K.

Brower, C.D., A. Carpenter, M. Branigan, W. Calvert, T. Evans, A.S. Fischbach, J. Nagy, S. Schliebe, and I. Stirling. 2002. The polar bear management agreement for the Southern Beaufort Sea: An evaluation of the first ten years of a unique conservation agreement. Arctic 56:362-372.

Chelintsev, N.G. 1977. Determination of the absolute number of dens based on the selective counts. Pp. 66-85, In Uspenski, S.M. (ed.). The polar bear and its conservation in the Soviet Arctic. Moscow, Central Laboratory on Nature Conservation. (In Russian with English summary).

Comiso, J.C. 2003. Warming trends in the Arctic from clear sky satellite observations. Journal of Climate 16:3498-3510.

Comiso, J.C. 2006. Arctic warming signals from satellite observations. Weather 61(3):70-76.

Cronin, M.A., S.C. Amstrup, G.W. Garner, and E.R. Vyse. 1991. Interspecific and intraspecific mitochondrial DNA variation in North American bears (Ursus). Canadian Journal of Zoology. 69:12:2985-2992.

Cronin, M.A., S.C. Amstrup, K.T. Scribner. 2006. Microsatellite DNA and mitochondrial DNA variation in polar bears (Ursus maritimus) in the Beaufort and Chukchi seas, Alaska. Canadian Journal of Zoology 84:655-660.

DeMaster, D.P., and I. Stirling. 1981. Ursus maritimus. Mammalian Species: 1-7.

Dizon, A.E., C. Lockyer, W.F. Perrin, D.P. DeMaster, and J. Sisson. 1992. Rethinking the stock concept: a phylogeographic approach. Conservation Biology 6:24-36.

Durner, G.M., D.C. Douglas, R.M. Nielson, S.C. Amstrup, T.L. McDonald, I. Stirling, M. Mauritzen, E.W. Born, O. Wiig, E. DeWeaver, M.C. Serreze, S.E. Belikov, M.M. Holland, J. Maslanik, J. Aars, D.C. Bailey, and A.E. Derocher. 2009. Predicting 21st century polar bear habitat distribution from global climate models. Ecological Monographs 79(1): 25-58.

Evans, T.J. 2004a. Concentrations of selected essential and non-essential elements in adult male polar bears (Ursus maritimus) from Alaska. U.S. Fish and Wildlife Service Technical Report. MMM 04-02. 68 pp.

Evans, T.J. 2004b. PCBs and chlorinated pesticides in adult male polar bears (Ursus maritimus) from Alaska. U.S. Fish and Wildlife Service Technical Report. MMM 04-01. 61 pp.

Evans, T.F., A.S. Fischbach, S. Schliebe, B. Manley, S. Kalxdorff, and G. York. 2003. Polar bear aerial survey in the Eastern Chukchi Sea: A Pilot Study. Arctic 56(4):359-366.

Fowler, C., W.J. Emery and J. Maslanik. 2004. Satellite-derived evolution of Arctic sea ice age: October 1978 to March 2003. Geoscience and Remote Sensing Letters, IEEE, Volume 1, Issue 2, April 2004. pp. 71-74.

Garner, G.W., S.T. Knick, and D.C. Douglas. 1990. Seasonal movements of adult female polar bears in the Bering and Chukchi seas. International Conference on Bear Research and Management 8:219-226.

Garner, G.W., L.L. McDonald, D.S. Robson, D.P. Young Jr., and S.M. Arthur. 1992. Literature review: population estimation methodologies applicable to the estimation of abundance of polar bears. Internal Report, U.S.F.W.S. 102 pp.

Garner, G.W., S.E. Belikov, M.S. Stishov, V.G. Barnes, and S.A. Arthur. 1994. Dispersal patterns of maternal polar bears from the denning concentration on Wrangel Island. International Conference on Bear Research and Management 9(1):401-410.

Garner, G.W., M.S. Stishov, O. Wiig, A. Boltunov, G.I. Belchansky, D.C. Douglas, L.L. McDonald, D.M. Mulcahy, and S. Schliebe. 1998. Polar bear research in western Alaska, eastern and western Russia 1993-1996. pp. 125-129. In A.E. Derocher, G. Garner, N. Lunn, and O. Wiig (eds.). Proceedings of the Twelfth Working Meeting of the IUCN/SSC Polar Bear Specialist Group. 3-7 February, 1997. Oslo, Norway. IUCN, Gland, Switzerland, and Cambridge, U.K. v + 159 pp.

Hanna, G.D. 1920. Mammals of the St. Matthew Islands, Bering Sea. Journal of Mammalogy 1:118-122.

Harington, C.R. 1968. Denning habits of the polar bear (Ursus maritimus Phipps). Canadian Wildlife Service Report, Series 5. 33 pp.

Holland, M., C.M. Bitz, and B. Tremblay. 2006. Future abrupt reductions in summer Arctic sea ice. Geophysical Research Letters 33 L25503: doi 10.1029/200661028024: 1-5.

Hunter, C.M., H. Caswell, M.C. Runge, E.V. Regehr, S.A. Amstrup, and I. Stirling. 2007. Polar bears in the Southern Beaufort Sea II: Demography and population growth in relation to sea ice conditions. U.S. Geological Survey, Alaska Science Center, Administrative Report. 46 pp.

IUCN. 2006. Status of the polar bear. pp. 33-56 in J. Aars J., N.J. Lunn, and A.E. Derocher (eds.), Proceedings of the 14th Working Meeting of the IUCN/SSC Polar Bear Specialist Group, Seattle, United States. IUCN, Gland, Switzerland, and Cambridge, U.K.

Kannan, K., S.H. Yun, and T.J. Evans. 2005. Chlorinated, brominated, and perfluorinated contaminants in livers of polar bears from Alaska. Environmental Science and Technology. 39:9057-9063.

Kannan, K., T. Agusa, T.J. Evans, and S. Tanabe. 2007. Trace element concentrations in livers of polar bears from tow population in northern and western Alaska. Archives of Environmental Contaminants and Toxicology 53:473-482.

Kochnev, A.A. 2006. Research on polar bear autumn aggregations on Chukotka, 1989-2004. pp. 157-166. In J. Aars, N.J. Lunn, and A.E. Derocher (eds.) Proceeding of the 14th Working Meeting of the IUCN/SSC Polar Bear Specialist Group, 20-24 June 2005, Seattle, Washington, U.S.A. IUCN, Gland, Switzerland, and Cambridge, U.K.

Lentfer, J.W. 1974. Discreteness of Alaskan polar bear populations. Proceedings of the International Congress of Game Biologists 11:323-329.

Lentfer, J.W. 1976. Environmental contaminants and parasites in polar bears. Alaska Department of Fish and Game, Pittman-Robertson Project Report. W-17-4 and W-17-5. 22 pp.

Lentfer, J.W. 1983. Alaskan polar bear movements from mark and recovery. Arctic 36:282-288.

Lentfer, J.W., and W.A. Galster. 1987. Mercury in polar bears from Alaska. Journal of Wildlife Diseases 23:338-341.

Lentfer, J.W., R.J. Hensel, J.R. Gilbert, and F.E. Sorensen. 1980. Population characteristics of Alaskan polar bears. International Conference on Bear Research and Management 3: 109-115.

Lindsay, R.W., and J. Zhang. 2005. The thinning of the Arctic sea ice, 1988-2003: have we passed a tipping point? J. Climate 18:4879-4894.

Lunn, N.J., S. Schliebe, and E.W. Born, eds. 2002. Polar bears: Proceedings of the 13th working meeting of the IUCN/SSC Polar Bear Specialist Group. IUCN, Gland, Switzerland, and Cambridge, U.K. vii +153pp.

Manning, T.H. 1971. Geographical variation in the polar bear Ursus maritimus Phipps. Canadian Wildlife Service Report Series No. 13. 27 pp.

Muir, D.C.G., S. Backus, A.E. Derocher, R. Dietz, T.J. Evans, G.W. Gabrielsen, J. Nagy, R.J. Norstrom, C. Sonne, I. Stirling, M.K. Taylor, and R.J. Letcher. 2006. Brominated flame retardants in polar bears (Ursus maritimus) from Alaska, the Canadian Arctic, East Greenland and Svalbard. Environmental Science and Technology 40(2):449-455.

Nageak, B.P., C.D.N. Brower, and S.L. Schliebe. 1991. Polar bear management in the southern Beaufort Sea: An Agreement between the Inuvialuit Game Council and the North Slope Borough Fish and Game Committee. In Transactions of North American Wildlife and Natural Resources Conference 56:337-343.

Ovsyanikov, N.G. 2006. Research and conservation of polar bears on Wrangel Island. Pp. 167-171, In J. Aars, N.J. Lunn, and A.E. Derocher (eds.), Proceeding of the 14th Working Meeting of the IUCN/SSC Polar Bear Specialist Group, 20-24 June 2005, Seattle, Washington, U.S.A. IUCN, Gland, Switzerland, and Cambridge, U.K.

Overland, J.E., and M. Wang. 2007. Future regional Arctic sea ice declines. Geophysical Research Letters 34: L17705.

Paetkau, D., S.C. Amstrup, E.W. Born, W. Calvert, A.E. Derocher, G.W. Garner, F. Messier, I. Stirling, M.K. Taylor, O. Wiig, and C. Strobeck. 1999. Genetic Structure of the world's polar bear populations. Molecular Ecology 8:1571-1584.

Parkinson, C.L., D.J. Cavalieri, P. Gloersen, H.J. Zwally, and J.C. Comiso. 1999. Arctic sea ice extents, areas, and trends, 1978-1996. Journal of Geophysical Research 104(C9):20837-20856.

Ray, C.E. 1971. Polar bear and mammoth on the Pribilof Islands. Arctic 24:9-19.

Regehr, E.V., S.C. Amstrup, and I. Stirling. 2006. Polar bear population status in the Southern Beaufort Sea. Report Series 2006-1337, U.S. Department of the Interior, U.S. Geological Survey, Anchorage, Alaska. 55 pp.

Regehr, E.V., C.M. Hunter, H. Caswell, S.C. Amstrup, and I. Stirling. 2007. Polar bears in the Southern Beaufort Sea I: Survival and breeding in relation to sea ice conditions, 2001-2006. U.S. Geological Survey, Alaska Science Center, Administrative Report. 45 pp.

Rode, K.D., S.C. Amstrup, and E.V. Regehr. 2007. Polar Bears in the southern Beaufort Sea III: stature, mass, and cub recruitment in relationship to time and sea ice extent between 1982 and 2006. U.S. Dept. of the Interior, U.S. Geological Survey Administrative Report, Reston, Virginia. 28 pp.

Rothrock, D.A., Y. Yu, and G.A. Maykut. 1999. Thinning of the Arctic sea-ice cover, Geophysical Research Letters 26:3469-3472.

Rush, S.A., K. Borga, R. Dietz, E.W. Born, C. Sonne, T. Evans, D.C.G. Muir, R.L. Letcher, R.J. Norstrom, and A.T. Fisk. 2008. Geographic Distribution of selected elements in the livers of polar bears from Greenland, Canada, and the United States. Environmental Pollution 153 (3): 618-626.

Schliebe, S.L., S.C. Amstrup, and G.W. Garner. 1995. The status of polar bear in Alaska, 1993. Pp. 125-139, In O. Wiig, G.W. Garner (eds.), Proceedings of the Eleventh Working Meeting of the IUCN/SSC Polar Bear Specialist Group, Copenhagen, Denmark. IUCN, Gland, Switzerland, and Cambridge, UK. v + 192 pp.

Schliebe, S., T.J. Evans, S. Miller, C. Perham, J. Wilder, and L.J. Lierheimer. 2006. Polar bear management in Alaska 2000-2004. Pp. 63-76, In J. Aars, N.J. Lunn, and A.E. Derocher (eds.), Proceeding of the 14th Working Meeting of the IUCN/SSC Polar Bear Specialist Group, 20-24 June 2005, Seattle, Washington, U.S.A. IUCN, Gland, Switzerland, and Cambridge, U.K.

Scribner, K.T., G.W. Garner, S.C. Amstrup, and M.A. Cronin. 1997. Population genetic studies of the polar bear (Ursus maritimus): a summary of available data and interpretation of results. Pp. 185-196, In Dizon, S., J. Chivers, and W. Perrin (eds.), Molecular genetics of marine mammals, incorporating the proceedings of a workshop on the analysis of genetic data to address problems of stock identity as related to management of marine mammals. Spec. Pub. #3 of the Society of Marine Mammalogy.

Serreze, M.C., M.M. Holland, and J. Stroeve. 2007. Perspectives on the Arctic's shrinking sea-ice cover. Science 315: 1533-1536.

Smithwick, M., J.W. Martin, S.A. Mabury, K. Solomon, C. Sonne, E.W. Born, R. Dietz, A.E. Derocher, R.L. Letcher, T.J. Evans, G.W. Gabrielsonm, J. Nagy, I. Stirling, and D.C.G. Muir. 2005. A circumpolar study of perfluoroalkyl contaminants in polar bears (Ursus maritimus). Environmental Science and Technology 39(15):5517-5523.

Smithwick, M.J., R.J. Norstrom, S.A. Maybury, K. Solomon, T.J. Evans, I. Stirling, M.K. Taylor, and D.C.G. Muir. 2006. Temporal trends of perfluoroalkyl contaminants in polar bears (Ursus maritimus) from two locations in the North American Arctic, 1972-2002. Environmental Science and Technology. 40(4):1139-1143.

Stishov, M.S. 1991a. Results of aerial counts of the polar bear dens on the arctic coast of the extreme Northern Asia. Pp. 90-92, In Amstrup, S.C., and Wiig, Ø. (eds.), Polar Bears: Proceedings of the Tenth Working Meeting of the IUCN/SSC Polar Bear Specialist Group. IUCN, Gland, Switzerland, and Cambridge, U.K.

Stishov, M.S. 1991b. Distribution and number of polar bear maternity dens on Wrangel and Herald islands, in 1985-1989, pp. 91-115 in Amerirkhavov, A.M. (ed.), Population and Communities of Mammals on Wrangel Island. Moscow, CNIL Glavokhhoty RSFSR. (in Russian).

Stishov, M.S., G.W. Garner, S.M. Arthur, and V.G.B. Barnes Jr. 1991. Distribution and relative abundance of maternal polar bear dens in the Chukotka Peninsula region, U.S.S.R. p. 67 in Abstracts, Ninth Biennial Conference on the Biology of the Marine Mammals, 5-9 December 1991, Chicago, Illinois, U.S.A.

Stroeve, J., M. Serreze, S. Drobot, S. Gearheard, M. Holland, J. Maslanik, W. Meier, and T. Scambos. 2008. Arctic Sea Ice Extent Plummets in 2007. EOS, Transactions, American Geophysical Union 89(2):13-14.

Treseder, L., and A. Carpenter. 1989. Polar bear management in the Southern Beaufort Sea. Info. N. 15(4):2-4.

USFWS. Unpublished data (polar bear harvest information). Available from: USFWS Marine Mammals Office, 1011 East Tudor Road, Anchorage, AK 99503.

Uspenski, S.M. 1986. Research and management of polar bear populations in the USSR, 1981-85. Pages 133-136 in Proceedings of the Ninth Working Meeting of the IUCN/SSC Polar Bear Specialist Group, IUCN, Gland, Switzerland, and Cambridge, U.K.

Verrault, J., D.C.G. Muir, R.J. Norstrom, I. Stirling, A.T. Fisk, G.W. Gabrielsen, A.E. Derocher, T.J. Evans, R. Dietz, C. Sonne, G.M. Sandala, W. Gebbink, F.F. Riget, E.W. Born, M.K. Taylor, J. Nagy, and R.J. Letcher. 2005. Chlorinated hydrocarbon contaminants and metabolites in polar bears (Ursus maritimus) from Alaska, Canada, East Greenland, and Svalbard: 1996-2002. The Science of the Total Environment 351-352:369-390.

Wade, P.R., and R. Angliss. 1997. Guidelines for assessing marine mammal stocks: Report in the GAMMS Workshop, April 3-5, 1996, Seattle, WA. 93 pp.

Wilson, D.E. 1976. Cranial variation in polar bears. International Conference Bear Research and Management 3:447-453.

Woshner, V.M., T.M. O'Hara, G.R. Bratton, and V.R. Beasley. 2001. Concentrations and interactions of selected essential and non-essential elements in ringed seals and polar bears of Arctic Alaska. Journal of Wildlife Diseases. (37):711-721.

Zdor, Eduard. Personal Communication. Executive Director, Association of Traditional Marine Mammal Hunters of Chukotka.

Authority: The authority for this action is the Marine Mammal Protection Act of 1972, as amended (16 U.S.C. 1361 et al.).

Dated: June 9, 2009.
Marvin Moriarty,
Acting Director, Fish and Wildlife Service.

[FR Doc. E9-14346 Filed 6-17-09; 8:45 am]

BILLING CODE 4310-55-P